DEPARTMENT OF COMMERCE

National Oceanic and Atmospheric Administration

Agency Information Collection Activities; Submission to the Office of Management and Budget (OMB) for Review and Approval; Comment Request; Pacific Coast Groundfish Trawl Rationalization Program Permit and License Information Collection

AGENCY: National Oceanic & Atmospheric Administration (NOAA), Commerce.

ACTION: Notice of information collection, request for comment.

SUMMARY: The Department of Commerce, in accordance with the Paperwork Reduction Act of 1995 (PRA), invites the general public and other Federal agencies to comment on proposed, and continuing information collections, which helps us assess the impact of our information collection requirements and minimize the public's reporting burden. The purpose of this notice is to allow for 60 days of public comment preceding submission of the collection to OMB.

DATES: To ensure consideration, comments regarding this proposed information collection must be received on or before October 6, 2025.

ADDRESSES: Interested persons are invited to submit written comments to Adrienne Thomas, NOAA PRA Officer, at NOAA.PRA@noaa.gov. Please reference OMB Control Number 0648-0620 in the subject line of your comments. All comments received are part of the public record and will generally be posted on https://www.regulations.gov without change. Do not submit Confidential Business Information or otherwise sensitive or protected information.

FOR FURTHER INFORMATION CONTACT: Requests for additional information or specific questions related to collection activities should be directed to Jahnava Duryea, Groundfish IFQ Permits Coordinator, Southwest Fisheries Science Center, 110 McAllister Way, Santa Cruz, CA 95060, (916) 930-3725 or via email at jahnava.duryea@noaa.gov.

SUPPLEMENTARY INFORMATION:

I. Abstract

This is a request for renewal of an approved information collection.

The National Marine Fisheries Service (NMFS) requests comments on the extension of a currently approved information collection for the West Coast Region's Pacific Coast Groundfish Trawl Rationalization Program.

The Magnuson-Stevens Fishery Conservation and Management Act, 16 U.S.C. 1801 et seq., provides that the Secretary of Commerce is responsible for the conservation and management of marine fisheries resources in the Exclusive Economic Zone (3-200 miles offshore) of the United States. NMFS West Coast Region manages the Pacific Coast Groundfish Fishery in the Exclusive Economic Zone (EEZ) off the coast of Washington, Oregon, and California under the Pacific Coast Groundfish Fishery Management Plan (FMP).

In January 2011, NMFS implemented a trawl rationalization program, which is a catch share program, for the Pacific Coast Groundfish Limited Entry Trawl Fishery. The program was implemented through Amendments 20 and 21 to the Pacific Coast Groundfish FMP and the corresponding implementing regulations at 50 CFR part 660. Amendment 20 established the trawl rationalization program that consists of an individual fishing quota (IFQ) program for the shorebased trawl fleet (including whiting and non-whiting sectors) and cooperative programs for the at-sea mothership and catcher/processor trawl fleets (whiting only). Amendment 21 set long-term allocations for the limited entry trawl sectors of certain groundfish species.

Under the trawl rationalization program, new permits, accounts, endorsements and licenses were established. These consist of quota share (QS) permits/accounts, vessel accounts, first receiver site licenses, mothership endorsements on certain limited entry trawl permits, mothership catcher vessel endorsements on certain limited entry trawl permits, catcher/processor endorsements on certain limited entry trawl permits, a mothership cooperative permit, and a catcher/processor cooperative permit. NMFS collects information from program participants in order to: (1) establish new permits, accounts, and licenses; (2) renew permits, accounts, and licenses; (3) allow trading of QS percentages and quota pounds (QP) in online QS and vessel accounts, and allow transfer of catch history assignments between limited entry trawl permits; (4) track compliance with program control limits; and (5) implement other features of the regulations pertaining to permits and licenses.

As part of its fishery management responsibilities, NMFS requires this information to determine whether a respondent complies with regulations that pertain to issuance and renewal of permits, and transfer and use of quotas. Identification of the participants of the trawl rationalization program, their gear types, descriptions of their vessels, and activity levels are needed to control and determine the extent of fishing and to track inseason quota use. Collection of this information also allows NMFS to equitably manage annual shorebased trawl allocations for the fishery and enforce control limits such that no person may own or control, or have a controlling influence over, quota for any individual species that exceeds the Shorebased IFQ Program accumulation limits.

II. Method of Collection

Information is collected by email and electronically through our Individual Fishing Quota (IFQ) Program for Pacific Coast Groundfish online portal, as well as a small portion submitted via mail.

The following information is collected by email: QS permit application forms; vessel account registration requests; trawl identification of ownership interest forms for new applicants, mothership catcher vessel endorsed limited entry permit owners, and mothership permit owners; mothership permit change of vessel registration, permit owner, or vessel owner application forms; mothership cooperative permit application forms; change of mothership catcher vessel endorsement and catch history assignment registration forms; catcher/processor cooperative permit application forms; and QS abandonment requests. Approximately 1% of the proceeding forms are received via regular mail by account holders.

The following information is collected electronically: QS permit renewals; late QS permit renewals; QS percent transfers; QP transfers from a QS account to a vessel account; vessel account renewals; late vessel account renewals; QP transfers from a vessel account to another vessel account; trawl identification of ownership interest forms for online QS and vessel account renewals; first receiver site license application forms (new applicants and re-registrations); and mothership permit renewals, and material change forms.

III. Data

OMB Control Number: 0648-0620.

Form Number(s): None.

Type of Review: Regular submission (extension of a current information collection).

Affected Public: Business or other for-profit organizations; non-profit institutions; State, local, or tribal government.

Estimated Number of Respondents: 392.

Estimated Time per Response: QS permit/account application form—20 minutes; QS permit/account online renewal—10 minutes; QS permit/account late renewal form—15 minutes; QS transfer—10 minutes; QP transfer from QS account to vessel account—5 minutes; vessel account registration request—15 minutes; vessel account online renewal—10 minutes; vessel account late renewal form—15 minutes; QP transfer from vessel account to another vessel account—5 minutes; trawl identification of ownership interest form for new entrants—45 minutes; trawl identification of ownership interest form for renewals—3.2 minutes; first receiver site license application form for new entrants—200 minutes; first receiver site license application form for re-registering license holders—100 minutes; mothership permit renewal form—10 minutes; mothership permit change of vessel registration, permit owner, or vessel owner application form—35 minutes; mothership cooperative permit application form—230 minutes; change of mothership catcher vessel endorsement and catch history assignment registration form—35 minutes; catcher/processor cooperative permit application form—110 minutes; QS abandonment request—10 minutes.

Estimated Total Annual Burden Hours: 808.

Estimated Total Annual Cost to Public: $15,724.

Respondent's Obligation: Required to Obtain or Retain Benefits.

Legal Authority: The program was implemented through Amendments 20 and 21 to the Pacific Coast Groundfish FMP and the corresponding implementing regulations at 50 CFR part 660.

IV. Request for Comments

We are soliciting public comments to permit the Department/Bureau to: (a) Evaluate whether the proposed information collection is necessary for the proper functions of the Department, including whether the information will have practical utility; (b) Evaluate the accuracy of our estimate of the time and cost burden for this proposed collection, including the validity of the methodology and assumptions used; (c) Evaluate ways to enhance the quality, utility, and clarity of the information to be collected; and (d) Minimize the reporting burden on those who are to respond, including the use of automated collection techniques or other forms of information technology.

Comments that you submit in response to this notice are a matter of public record. We will include or summarize each comment in our request to OMB to approve this information collection request. Before including your address, phone number, email address, or other personal identifying information in your comment, you should be aware that your entire comment—including your personal identifying information—may be made publicly available at any time. While you may ask us in your comment to withhold your personal identifying information from public review, we cannot guarantee that we will be able to do so.

Sheleen Dumas,
Departmental PRA Compliance Officer, Office of the Under Secretary for Economic Affairs, Commerce Department.

[FR Doc. 2025-15040 Filed 8-6-25; 8:45 am]

BILLING CODE 3510-22-P